DEPARTMENT OF STATE

[Public Notice: 12686]

Notice of Determinations; Additional Culturally Significant Objects Being Imported for Exhibition—Determinations: “The First Homosexuals” Exhibition

SUMMARY: On December 23, 2024, notice was published in the Federal Register of determinations pertaining to certain objects to be included in an exhibition entitled “The First Homosexuals.” On February 11, 2025, notice was published in the Federal Register of determinations pertaining to a certain additional object to be included in the aforesaid exhibition. Notice is hereby given of the following determinations: I hereby determine that certain additional objects being imported from abroad pursuant to agreements with their foreign owners or custodians for temporary display in the aforesaid exhibition by Alphawood Foundation, through its subsidiary Alphawood Exhibitions LLC, at the Wrightwood 659 Gallery, Chicago, Illinois, and at possible additional exhibitions or venues yet to be determined, are of cultural significance, and, further, that their temporary exhibition or display within the United States as aforementioned is in the national interest. I have ordered that Public Notice of these determinations be published in the Federal Register.

FOR FURTHER INFORMATION CONTACT: Reed Liriano, Program Coordinator, Office of the Legal Adviser, U.S. Department of State (telephone: 202-632-6471; email: section2459@state.gov). The mailing address is U.S. Department of State, L/PD, 2200 C Street NW, (SA-5), Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 574 of March 4, 2025. The notice of determinations published on December 23, 2024, appears at 89 FR 104603, and the notice of determinations published on February 11, 2025, appears at 90 FR 9353.

Mary C. Miner,
Managing Director for Professional and Cultural Exchanges, Bureau of Educational and Cultural Affairs, Department of State.

[FR Doc. 2025-04843 Filed 3-20-25; 8:45 am]

BILLING CODE 4710-05-P